DEPARTMENT OF TRANSPORTATION

Federal Aviation Administration

Notice of Intent To Rule on Application 02-04-C-00-RDM To Impose and Use the Revenue From a Passenger Facility Charge (PFC) at Roberts Field, Submitted by the City of Redmond, Roberts Field, Redmond, OR

AGENCY: Federal Aviation Administration (FAA), DOT.

ACTION: Notice of intent to rule on application.

SUMMARY: The FAA proposes to rule and invites public comment on the application to impose and use PFC revenue at Roberts Field under the provisions of 49 U.S.C. 40117 and part 158 of the Federal Aviation Regulations (14 CFR part 158).

DATES: Comments must be received on or before April 15, 2002.

ADDRESSES: Comments on this application may be mailed or delivered in triplicate to the FAA at the following address: Mr. J. Wade Bryant, Manager; Seattle Airports District Office, SEA-ADO; Federal Aviation Administration; 1601 Lind Avenue SW., Suite 250, Renton, Washington 98055-4056. In addition, one copy of any comments submitted to the FAA must be mailed or delivered to Ms. Carolyn S. Novick, Airport Manager, at the following address: City of Redmond, PO Box 726, Redmond, Oregon 97756.

Air Carriers and foreign air carriers may submit copies of written comments previously provided to Roberts Field, under § 158.23 of part 158.

FOR FURTHER INFORMATION CONTACT: Ms. Suzanne Lee-Pang, (425) 227-2654, Seattle Airports District Office, SEA-ADO; Federal Aviation Administration; 1601 Lind Avenue SW., Suite 250, Renton, Washington, 98055-4056. The application may be reviewed in person at this same location.

SUPPLEMENTARY INFORMATION: The FAA proposes to rule and invites public comment on the application 02-04-C-00-RDM to impose and use PFC revenue at Roberts Field, under the provisions of 49 U.S.C. 40117 and part 158 of the Federal Aviation Regulations (14 CFR part 158).

On March 6, 2002, the FAA determined that the application to impose and use the revenue from a PFC submitted by City of Redmond, Roberts Field, Redmond, Oregon, was substantially complete within the requirements of § 158.25 of part 158. The FAA will approve or disapprove the application, in whole or in part, no later than May 24, 2002.

The following is a brief overview of the application.

Level of the proposed PFC: $4.50.

Proposed charge effective date: June 1, 2003.

Proposed charge expiration date: April 1, 2006.

Total requested for use approval: $1,968,545.

Brief description of proposed project: Expand Terminal Access Road; Design of Terminal Expansion; Install Perimeter Fence; Wildlife Mitigation; Design and Rehabilitate Air Carrier Terminal Apron; Rock Obstruction Removal.

Class or classes of air carriers, which the public agency has requested, not be required to collect PFC's: Air Taxis which comprise less than one percent of the total enplanements at Roberts Field.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at Roberts Field.

Issued in Renton, Washington on March 6, 2002.
David A. Field,
Manager, Planning, Programming and Capacity Branch, Northwest Mountain Region.

[FR Doc. 02-6132 Filed 3-13-02; 8:45 am]

BILLING CODE 4910-13-M